DEPARTMENT OF LABOR

Employment and Training Administration

[TA-W-38,645]

Texel USA, Inc., Henderson, North Carolina; Notice of Revised Determination on Reconsideration

By letter of July 24, 2001, the company requested administrative reconsideration regarding the Department's Negative Determination Regarding Eligibility to Apply for Worker Adjustment Assistance, applicable to the workers of the subject firm.

The initial investigation resulted in a negative determination issued on July 2, 2001, based on the finding that imports of nonwoven needle punched felts did not contribute importantly to worker separations at the Henderson plant. The denial notice was published in the Federal Register on July 20, 2001 (66 FR 38026).

To support the request for reconsideration, the company supplied additional information which helped clarify information that was provided during the initial investigation. The company indicated they shifted subject plant projection to an affiliated plant located in Canada and simultaneously began importing nonwoven needle punched felts back to the United States to serve their domestic customer base during the relevant period. The imports accounted for a meaningful portion of the subject plant production.

Conclusion

After careful review of the additional facts obtained on reconsideration, I conclude that increased imports of articles like or directly competitive with those produced at Texel USA, Inc., Henderson, North Carolina, contributed importantly to the declines in sales or production and to the total or partial separation of workers at the subject firm. In accordance with the provision of the Act, I make the following certification:

“All workers of Texel USA, Inc., Henderson, North Carolina, who become totally or partially separated from employment on or after January 29, 2000 through two years from the date of this certification, are eligible to apply for adjustment assistance under Section 223 of the Trade Act of 1974.”

Signed in Washington, DC this day 11th of December 2001.
Edward A. Tomchick,
Director, Division of Trade Adjustment Assistance.

[FR Doc. 01-32213 Filed 12-31-01; 8:45 am]

BILLING CODE 4510-30-M